DEPARTMENT OF DEFENSE

Department of the Army

Notice of Intent To Grant Exclusive Patent License; Extreme Endeavors and Consulting

AGENCY: Department of the Army, DoD.

ACTION: Notice of intent.

SUMMARY: In compliance with 37 CFR 404 et seq., the Department of the Army hereby gives notice of its intent to grant to Extreme Endeavors and Consulting, a corporation having its principal place of business at P.O. Box 2093, Philippi, WV 26416, exclusive license to practice in the United States, the Government-owned inventions described in U.S. Patent No. 5,515,865 issued May 14, 1996 entitled, “Sudden Infant Death Syndrome (SIDS) Monitor and Simulator,” U.S. Patent No. 5,684,460 issued in November 4, 1997 entitled “Motion and Sound Monitor Simulator,”; and U.S. Patent No. 5,853,005 issued in December 29, 1998 entitled “Acoustic Monitoring System,”.

DATES: Anyone wishing to object to the grant of this license must file written objections along with supporting evidence, if any, not later than 15 days from the date of this notice.

ADDRESSES: Send written objections to Michael D. Rausa, U.S. Army Research Laboratory, Office of Research and Technology Applications, ATTN: AMSRD-ARL-DP-T/Bldg. 454, Aberdeen Proving Ground, MD 21005-5425.

FOR FURTHER INFORMATION CONTACT: Michael D. Rausa, telephone (410) 278-5028.

SUPPLEMENTARY INFORMATION: None.

Brenda S. Bowen,
Army Federal Register Liaison Officer.

[FR Doc. 05-18071 Filed 9-12-05; 8:45 am]

BILLING CODE 8170-08-M